DEPARTMENT OF HEALTH AND HUMAN SERVICES

Centers for Disease Control and Prevention

Advisory Committee to the Director (ACD), Centers for Disease Control and Prevention (CDC)—Health Disparities Subcommittee (HDS)

In accordance with section 10(a)(2) of the Federal Advisory Committee Act (Pub. L. 92-463), the CDC announces the following meeting of the aforementioned subcommittee:

Time and Date: 2 p.m.-3 p.m., September 23, 2010.

Place: The teleconference will originate at the CDC.

Status: Open to the public. Teleconference access limited only by the availability of telephone ports. The public is welcome to participate during the public comment period, which is tentatively scheduled from 2:45 p.m. to 2:50 p.m. To participate in the teleconference please dial (877) 394-7734 and enter conference code 9363147.

Purpose: The Subcommittee will provide recommendations for consideration to the Advisory Committee to the Director on strategic and other broad issues facing CDC.

Matters to be Discussed: Policy brief on health equity and social determinants of health; update on collaboration with the CDC Health Equity Workgroup; CDC Director's Annual Health Disparity Report; and briefing on the realignment of the CDC Office of Minority Health and Health Disparities.

Agenda items are subject to change as priorities dictate.

Contact Person for More Information: Walter W. Williams, M.D., M.P.H., Designated Federal Officer, Health Disparities Subcommittee, Advisory Committee to the Director, CDC, 1600 Clifton Road, NE., M/S E-67, Atlanta, Georgia 30333. Telephone (404) 498-2310, E-mail: www1@cdc.gov.

The Director, Management Analysis and Services Office, has been delegated the authority to sign Federal Register notices pertaining to announcements of meetings and other committee management activities, for both the Centers for Disease Control and Prevention and the Agency for Toxic Substances and Disease Registry.

Dated: August 24, 2010.
Elaine L. Baker,
Director, Management Analysis and Services Office, Centers for Disease Control and Prevention.

[FR Doc. 2010-21803 Filed 8-31-10; 8:45 am

BILLING CODE 4163-18-P